DEPARTMENT OF COMMERCE

National Oceanic and Atmospheric Administration

[RTID 0648-XD847]

South Atlantic Fishery Management Council; Public Meetings

AGENCY: National Marine Fisheries Service (NMFS), National Oceanic and Atmospheric Administration (NOAA), Commerce.

ACTION: Notice of public meetings.

SUMMARY: The South Atlantic Fishery Management Council (Council) will hold four Best Fishing Practices Master Volunteer Program (BFP MVP) workshops covering best fishing practices, specifically for snapper grouper species, how to get involved in Citizen Science projects, and how to get involved in the Council process.

DATES: The BFP MVP workshops will take place April 25, May 7, May 8, and May 29, 2024. The workshops will begin at 6 p.m., local time. See SUPPLEMENTARY INFORMATION.

ADDRESSES:

Meeting addresses: The workshops will be held in Charleston, SC; Myrtle Beach, SC; Okatie, SC; and Savannah, GA. See SUPPLEMENTARY INFORMATION.

Council address: South Atlantic Fishery Management Council, 4055 Faber Place Drive, Suite 201, N Charleston, SC 29405.

FOR FURTHER INFORMATION CONTACT: Ashley Oliver, Best Fishing Practices Outreach Specialist, SAFMC; phone: (843) 571-4366 or toll free: (866) SAFMC-10; fax: (843) 769-4520; email: ashley.oliver@safmc.net.

SUPPLEMENTARY INFORMATION: The Council is hosting a series of Best Fishing Practices Master Volunteer Program (BFP MVP) workshops along the South Atlantic coast throughout 2024 empowering key members of the fishing community to share information on best fishing practices and opportunities to get involved in the Council process. The agenda for the in-person workshops is as follows: Council staff will introduce BFP MVP and the Council's goals and objectives; Best Fishing Practices including the topics of barotrauma and barotrauma mitigation devices; the Council's Citizen Science projects, regional fishery management councils and the South Atlantic Fishery Management Council; and how to get involved in the federal fishery management process. If applicable, State agencies will share information pertaining to their efforts. Throughout the workshop, attendees will have the opportunity to share their expertise and ideas with staff on improving outreach efforts in their community. Information provided during workshops will be summarized and presented to the Council for use in ongoing outreach efforts. Additional workshops will be scheduled along the South Atlantic coast throughout the remainder of 2024 and noticed as needed.

Workshop Locations

Thursday, April 25, 2024: SC Department of Natural Resources Outdoor Classroom, 412-418 Fort Johnson Rd., Charleston, SC 29412; phone: (843) 953-9300;

Tuesday, May 7, 2024: Bass Pro Classroom, 10177 N Kings Hwy., Myrtle Beach, SC 29572; phone: (843) 361-4800;

Wednesday, May 8, 2024: Port Royal Maritime Center, 310 Okatie Hwy., Okatie, SC 29909; phone: (843) 645-7774;

Wednesday, May 29, 2024: Georgia Southern University Armstrong Campus: 11935 Abercorn Street, Savannah, GA 31419; phone: (912) 478-4636.

Special Accommodations

These meetings are physically accessible to people with disabilities. Requests for auxiliary aid should be directed to the Council office (see ADDRESSES) 3 days prior to the meeting.

Note: The times and sequence specified in this agenda are subject to change.

Authority: 16 U.S.C. 1801 et seq.

Dated: April 3, 2024.
Rey Israel Marquez,
Acting Deputy Director, Office of Sustainable Fisheries, National Marine Fisheries Service.

[FR Doc. 2024-07442 Filed 4-8-24; 8:45 am]

BILLING CODE 3510-22-P